DEPARTMENT OF COMMERCE

National Oceanic and Atmospheric Administration

RIN 0648-XD528

New England Fishery Management Council; Public Meeting; Cancellation

AGENCY: National Marine Fisheries Service (NMFS), National Oceanic and Atmospheric Administration (NOAA), Commerce.

ACTION: Notice of cancellation of a public meeting.

SUMMARY: The New England Fishery Management Council has cancelled the public meeting of its Observer Policy Committee that was scheduled for Thursday, October 23, 2014 has been cancelled.

FOR FURTHER INFORMATION CONTACT: Paul J. Howard, Executive Director, New England Fishery Management Council; telephone: (978) 465-0492.

SUPPLEMENTARY INFORMATION: The initial notice published in the Federal Register on October 8, 2014 (79 FR 60810).

Dated: October 8, 2014.
Tracey L. Thompson,
Acting Deputy Director, Office of Sustainable Fisheries, National Marine Fisheries Service.

[FR Doc. 2014-24431 Filed 10-14-14; 8:45 am]

BILLING CODE 3510-22-P